FEDERAL RESERVE SYSTEM

12 CFR Parts 206, 208, 211, 215, 217, 223, 225, 238, and 251

[Regulation Q; Docket No. R-1638]

RIN 7100-AF 29

Regulatory Capital Rule: Capital Simplification for Qualifying Community Banking Organizations

AGENCY: Board of Governors of the Federal Reserve System (Board).

ACTION: Final rule; correction.

SUMMARY: The Federal Register document of November 13, 2019, promulgating a final rule that provides for a simple measure of capital adequacy for certain community banking organization had two erroneous amendment instructions. This document corrects these errors.

DATES: This correction is effective on January 1, 2020.

SUPPLEMENTARY INFORMATION: In FR Doc. 2019-23472 appearing on page 61776 in the Federal Register of Wednesday, November 13, 2019, the following corrections are made:

1. On page 61796, in the center column, amendatory instruction 31 is corrected to read as follows:

“31. Section 208.43 is amended by revising paragraphs (a), (b) introductory text, and (b)(1) to read as follows:”

2. On page 61799, in the center column, amendatory instruction 46 is corrected to read as follows:

“46. Section 225.14 is amended by:

a. Redesignating footnote 3 to paragraph (a)(1)(ii) as footnote 1 to paragraph (a)(1)(ii);

b. Revising paragraphs (a)(1)(v), (a)(1)(vii), and (c)(6)(i)(A) and (B); and

c. Adding paragraphs (c)(6)(iii) and (f).”

Board of Governors of the Federal Reserve System, December 18, 2019.
Ann Misback,
Secretary of the Board.

[FR Doc. 2019-27717 Filed 12-23-19; 8:45 am]

BILLING CODE 6210-01-P